DEPARTMENT OF VETERANS AFFAIRS

[OMB Control No. 2900-New (VA Form 10-0529a-f)]

Agency Information Collection: Emergency Submission for OMB Review (PACT: Clinical Innovation Study—Helping Veterans Manage Chronic Pain); Comment Request

AGENCY: Veterans Health Administration, Department of Veterans Affairs.

ACTION: Notice.

SUMMARY: In compliance with the Paperwork Reduction Act (PRA) of 1995 (44 U.S.C., 3501-3521), this notice announces that the Department of Veterans Affairs (VA), will submit to the Office of Management and Budget (OMB) the following emergency proposal for the collection of information under the provisions of the Paperwork Reduction Act (44 U.S.C. 3507(j)(1)). An emergency clearance is being requested for information needed to develop and evaluate a patient-centered model of care for OEF/OIF veterans with PTSD.

DATES: Comments must be submitted on or before August 31, 2012.

ADDRESSES: Send comments and recommendations concerning any aspect of the information collection to VA's OMB Desk Officer, OMB Human Resources and Housing Branch, New Executive Office Building, Room 10235, Washington, DC 20503, (202) 395-7316 or FAX (202) 395-6974. Please refer to “2900-New (VA Form 10-0529a-f).

FOR FURTHER INFORMATION CONTACT: Denise McLamb, Enterprise Records Service (005R1B), Department of Veterans Affairs, 810 Vermont Avenue NW., Washington, DC 20420, (202) 632-7479, FAX (202) 632-7583 or email: denise.mclamb@va.gov. Please refer to “OMB Control No. 2900-New VA Form (10-0529a-f).”

SUPPLEMENTARY INFORMATION:

Title: Clinical Innovation Study—Helping Veterans Manage Chronic Pain.

a. Pain Care Management Tracking Tool, VA Form 10-0532.

b. Pain Care Management Self Monitoring Form (unpublished) 10-0532a.

c. Pain Outcomes Questionnaire (Clark, Gironda, & Young, 2003)10-0532b.

d. The Multidimensional Pain Inventory (MPI; Kearns, Turk, & Rudy, 1985) 10-0532b.

e. Pain Catastrophizing Scale (Osman, Barrios, Gutierrez, Kopper, Merrifield, & Grittmann, 2000) 10-0532d.

f. The Oswestry Disability Index (Fairbank & Pynsent, 2000) 10-0532e.

g. Brief Pain Inventory—Short Form (BPI; Cleeland, 1991). Administered at baseline and each follow-up. 10-0532f.

h. Fear-Avoidance Beliefs Questionnaire (FABQ; Waddell, Newton, et al., 1993) 10-0532g.

i. The Brief COPE (Carver, 1997) 10-0532h.

j. Depression and Anxiety Stress Scales (DASS-21; Lovibond & Lovibond, 1995) 10-0532i.

k. Patient Health Questionnaire (PHQ-9; Kroenke, Spitzer, & Williams, 2001) 10-0532j.

l. Generalized Anxiety Disorder (GAD-7); Spitzer, Kroenke, Williams, & Lowe, 2006) 10-0532k.

OMB Control Number: 2900-New.

Type of Review: New data collection.

Abstract: The data collected on VA Forms 10-0532a-k will be used to: (1) Assess the effectiveness of patient care management (PCM) in increasing patients' functionality, improving quality of life, and improving paint control relative to usual care and (2) to assess the impact of PCM on depression and anxiety relative to usual care. This data collection's model has been designed to serve patients by augmenting existing pain management interventions (e.g., medications, physical therapy) by teaching pain care management skills that patients can incorporate into their daily activities. VA will use the information to evaluate the effectiveness of the intervention so that it can most effectively be applied to future patients with chronic pain problems.

Affected Public: Individuals or households.

Estimated Annual Burden:

a. VA Form 10-0532—67 hours.

b. 10-0532A—80 hours.

c. 10-0532B—200 hours.

d. 10-0532C—80 hours.

e. 10-0532D—53 hours.

f. 10-0532E—53 hours.

g. 10-0532F—133 hours.

h. 10-0532G—19 hours.

i. 10-0532H—27 hours.

j. 10-0532I—93 hours.

k. 10-0532J—67 hours.

l. 20-0532K—67 hours.

Estimated Average Burden per Respondent:

a. VA Form 10-0532—5 minutes.

b. 10-0532A—10 minutes.

c. 10-0532B—15 minutes.

d. 10-0532C—15 minutes.

e. 10-0532D—10 minutes.

f. 10-0532E—10 minutes.

g. 10-0532F—10 minutes.

h. 10-0532G—7 minutes.

i. 10-0532H—10 minutes.

j. 10-0532I—7 minutes.

k. 10-0532J—5 minutes.

l. 20-0532K—5 minutes.

Frequency of Response: Monthly.

Estimated Number of Respondents:

a. VA Form 10-0532—800.

b. 10-0532A—480.

c. 10-0532B—800.

d. 10-0532C—320.

e. 10-0532D—320.

f. 10-0532E—320.

g. 10-0532F—800.

h. 10-0532G—160.

i. 10-0532H—160.

j. 10-0532I—800.

k. 10-0532J—800.

l. 20-0532K—800.

Dated: August 16, 2012.
By direction of the Secretary.
Denise McLamb,
Program Analyst Director, Enterprise Records Service.

[FR Doc. 2012-20459 Filed 8-20-12; 8:45 am]

BILLING CODE 8320-01-P